DEPARTMENT OF COMMERCE

International Trade Administration

[A-351-853, A-570-117]

Wood Mouldings and Millwork Products From Brazil and the People's Republic of China: Postponement of Preliminary Determinations in the Less-Than-Fair-Value Investigations

AGENCY: Enforcement and Compliance, International Trade Administration, Department of Commerce.

DATES: Applicable May 26, 2020.

FOR FURTHER INFORMATION CONTACT: George Ayache (Brazil) or Brian Smith (the People's Republic of China (China)), AD/CVD Operations, Enforcement and Compliance, International Trade Administration, U.S. Department of Commerce, 1401 Constitution Avenue NW, Washington, DC 20230; telephone: (202) 482-2623 or (202) 482-1766, respectively.

SUPPLEMENTARY INFORMATION:

Background

On January 28, 2020, the Department of Commerce (Commerce) initiated less-than-fair-value (LTFV) investigations of imports of wood mouldings and millwork products (millwork products) from Brazil and China.¹ The deadline for the preliminary determinations is June 16, 2020.

¹ See Wood Mouldings and Millwork Products from Brazil and the People's Republic of China: Initiation of Less-Than-Fair-Value Investigations, 85 FR 6502 (February 5, 2020) (Initiation Notice).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On April 27, 2020, the petitioner ² submitted a timely request that Commerce postpone the preliminary determinations in these LTFV investigations.³ The petitioner stated that it requests postponement due to the amount of time that Commerce will need to conduct a complete and thorough analysis, including the issuance of supplemental questionnaires in both investigations.⁴ The petitioner requests that Commerce fully extend the deadline for the preliminary determinations by 50 days.

² The petitioner is the Coalition of American Millwork Producers.

³ See Petitioner's Letters, “Wood Mouldings and Millwork Products from Brazil: Request for Postponement of the Preliminary Determination,” and “Wood Mouldings and Millwork Products from the People's Republic of China: Request for Postponement of the Preliminary Determination,” both dated April 27, 2020.

⁴ Id.

For the reasons stated above, and because there are no compelling reasons to deny the request, Commerce, in accordance with section 733(c)(1)(A) of the Act, is postponing the deadline for the preliminary determinations by 50 days (i.e., 190 days after the date on which these investigations were initiated). As a result, Commerce will issue its preliminary determinations no later than August 5, 2020. In accordance with section 735(a)(1) of the Act and 19 CFR 351.210(b)(1), the deadline for the final determinations in these investigations will continue to be 75 days after the date of the preliminary determinations, unless postponed at a later date.

This notice is issued and published pursuant to section 733(c)(2) of the Act and 19 CFR 351.205(f)(1).

Dated: May 19, 2020.
Jeffrey I. Kessler,
Assistant Secretary for Enforcement and Compliance.

[FR Doc. 2020-11209 Filed 5-22-20; 8:45 am]

BILLING CODE 3510-DS-P